DEPARTMENT OF TRANSPORTATION

Federal Highway Administration

Revised Notice of Intent To Prepare a Tier 1 Environmental Impact Statement: Brown County, Wisconsin

AGENCY: Federal Highway Administration (FHWA), DOT.

ACTION: Revised notice of intent to prepare an Environmental Impact Statement.

SUMMARY: The FHWA is revising the March 11, 2008 Notice of Intent which advised the public that an Environmental Impact Statement (EIS) would be prepared for proposed transportation improvements in the southern part of the Green Bay metropolitan area in Brown County, Wisconsin. The FHWA will now prepare a Tier 1 EIS to evaluate the proposed improvements.

FOR FURTHER INFORMATION CONTACT: Ian Chidister, Environmental Program Manager, Federal Highway Administration, 525 Junction Road, Suite 8000, Madison, WI 53717, telephone: (608) 829-7503, email: ian.chidister@dot.gov; Bryan Lipke, P.E., Planning Project Manager, Wisconsin Department of Transportation, Northeast Region, 944 Vanderperren Way, Green Bay, WI 54304, telephone: (920) 492-5703, email: Bryan.Lipke@dot.wi.gov; Cole Runge, Principal Planner/MPO Director, Brown County Planning Commission/Green Bay MPO, 305 E. Walnut Street Room 320, PO Box 23600, Green Bay, WI 54305, telephone (920) 448-6480, email: Cole.Runge@browncountywi.gov.

SUPPLEMENTARY INFORMATION: The FHWA, in cooperation with the Wisconsin Department of Transportation (WisDOT) and Brown County (the Lead Agencies), will prepare a Tier 1 EIS in accordance with 23 Code of Federal Regulations (CFR) 771.111(g) and 40 CFR 1502.20. The Lead Agencies previously issued a Notice of Intent on March 11, 2008, advising agencies and the public that an EIS would be prepared to study proposed transportation improvements to address existing and future transportation demand in the southern portion of the Green Bay metropolitan area.

Since the previous Notice of Intent was issued, the Lead Agencies developed a Draft Coordination Plan, Draft Impact Assessment Methodologies, draft purpose and need, and a preliminary range of alternatives. The Lead Agencies also convened two meetings with a Project Stakeholder Committee, held three public scoping/involvement meetings, and held meetings with participating and cooperating agencies to obtain concurrence for the purpose and need and the alternatives retained for detailed study. The Lead Agencies will coordinate with stakeholders, agencies, and the public to revisit and update documentation and decisions from previous EIS development efforts.

The proposed project will identify the most appropriate transportation improvements for addressing existing transportation demand and demand generated by the planned development in the southern part of the Green Bay metropolitan area. The study area includes the City of De Pere, the Villages of Allouez, Bellevue, Hobart, and Ashwaubenon, and the Towns of Glenmore, Ledgeview, Rockland, and Lawrence. The development that is planned to occur is projected to generate traffic which will strain the capacity of the area's existing transportation infrastructure. The project will study the traffic operations, capacity, and safety of the transportation infrastructure along with existing and planned development in the study area, system linkages, and local planning efforts.

A Tier 1 Draft EIS is anticipated for completion in summer 2020 with a combined Final EIS and Record of Decision (ROD) in fall 2020. Letters describing the proposed action and soliciting comments have been sent to appropriate Federal, State, and local agencies, and Native American Tribes. An agency scoping meeting and a public involvement meeting were held on December 11, 2019 with the appropriate agencies and the general public.

Public involvement is a critical component of the National Environmental Policy Act (NEPA) process, and it will be integrated with the process to develop the Tier 1 EIS. All environmental documents will be made available for review by federal and state resource agencies and the public. Specific efforts will be made to encourage involvement by, and solicit comments from minority and low-income populations in the project study area, with public involvement meetings held throughout the NEPA process. Public notice will be given regarding the time and place of public involvement meetings. A public hearing will be held after the completion of the Tier 1 Draft EIS. Project information will be posted on the Brown County website (https://www.browncountywi.gov/departments/planning-and-land-services/planning/transportation/). Inquiries about the project may be sent to the contacts listed above. To ensure the full range of issues related to the proposed action are addressed and all significant issues are identified, comments and suggestions are invited from all interested parties.

Projects receiving Federal funds must comply with Title VI of the Civil Rights Act and Executive Order 12898 “Federal Actions to Address Environmental Justice in Minority Populations and Low-Income Populations.” Federal law prohibits discrimination on the basis of race, color, age, sex, or country of national origin in the implementation of this project. It is also Federal policy to identify and address any disproportionately high and adverse effects of Federal projects on the health or environment of minority and low-income populations to the greatest extent practicable and permitted by law.

(Catalog of Federal Domestic Assistance Program Number 20.205, Highway Planning and Construction. The regulations implementing Executive Order 12372 regarding intergovernmental consultation on Federal programs and activities apply to this program.)

Authority: 23 CFR 771.123

Dated: December 20, 2019.
Ian Chidister,
Environmental Program Manager, FHWA, Madison, Wisconsin.

[FR Doc. 2019-28046 Filed 12-27-19; 8:45 am]

BILLING CODE 4910-RY-P